GENERAL SERVICES ADMINISTRATION

[OMB Control No. 3090-0332; Docket No. 2024-0001; Sequence No. 13]

Submission for OMB Review; Data Collection for a National Evaluation of the American Rescue Plan

AGENCY: Office of Evaluation Sciences (OES); General Services Administration (GSA).

ACTION: Notice; request for comments.

SUMMARY: Under the provisions of the Paperwork Reduction Act, OES is proposing new data collection activities conducted for the National Evaluation of the American Rescue Plan (ARP). The objective of this project is to provide a systematic look at the contributions of selected ARP-funded programs toward achieving equitable outcomes to inform program design and delivery across the Federal Government. The project will include in-depth, cross-cutting evaluations and data analysis of selected ARP programs, especially those with shared outcomes, common approaches, or overlapping recipient communities; and targeted, program-specific analyses to fill critical gaps in evidence needs. This information collection request is for three mixed or multi-method evaluations under the American Rescue Plan National Evaluation Generic Clearance (OMB #: 3090-0332, expires 05/31/2027).

DATES: Submit comments on or before January 15, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Elizabeth Martin, Senior Program Manager, 267-455-8556 at arp.national.evaluation@gsa.gov.

SUPPLEMENTARY INFORMATION:

A. Purpose

The goal of this study is to look systematically across the selected subset of ARP programs, to provide an integrated account of whether, how, and to what extent their implementation served to achieve their intended outcomes, particularly with respect to advancing equity.

This package updates the generic request with instruments tailored to a study on state coordination (State Coordination Strategies to Equitably Serve Children Through the American Rescue Plan (State Coordination Strategies study).

Data collection activities covered under this request focus on case studies.

Respondents: State and local program administrators; local and tribal policy leaders, program and county administrators, and service providers; and parents and guardians who were recipients of ARP services and supports for children.

B. Annual Burden Estimates

The burden estimates included in the supporting statements reflect the expectations for information collection and related activities associated with the conduct of this phase of three studies. During this phase, we anticipate information collection to include:

Total respondents: 442.

Total Burden Hours: 335.80.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies: Requesters may obtain a copy of the information collection documents from the GSA Regulatory Secretariat Division, by calling 202-501-4755 or emailing GSARegSec@gsa.gov. Please cite OMB Control No. 3090-0332, Data Collection for a National Evaluation of the American Rescue Plan.

Lois Mandell,
Director, Regulatory Secretariat Division, General Services Administration.

[FR Doc. 2024-29584 Filed 12-13-24; 8:45 am]

BILLING CODE 6820-TZ-P